DEPARTMENT OF AGRICULTURE

Submission for OMB Review; Comment Request

April 19, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 24, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Census of Users of the National Plant Germplasm System.

OMB Control Number: 0536-NEW.

Summary of Collection: The Census of Users of the National Plant Germplasm System (NPGS) is a new, one-time, data collection. The census will solicit data from the 6,009 institutional representatives who requested germplasm (i.e., living tissue from which plants can be grown) for any of ten crops including beans, barley, cotton, maize, sorghum, squash, soybeans, potato, rice, and wheat from the NPGS over a five year period from January 2009 to December 2013. Each respondent will be asked to provide information via a web-based questionnaire. The legal authority for the planned data collection is 7 U.S.C. 2204(a) and 7 U.S.C. 427.

Need and Use of the Information: The information to be collected by the “Census of Users of the National Plant Germplasm System” is necessary to assess and understand the types and varieties of germplasm needed by breeders and other scientists in both the public and private sectors. This study will provide data currently not available to program officials and researchers, thereby broadening the scope of analyses of genetic enhancement, and in turn, enhancing R&D and productivity research at the Economic Research Service, the National Plant Germplasm System, and the National Germplasm Resource Laboratory. Without the combination of data about traits sough and the purpose intended for germplasm, it will be difficult or impossible to assess the use of NPGS resources for adaptation to changing conditions.

Description of Respondents: Individuals or households; Businesses or other-for-profit; Not-for-profit institutions; State, Local or Tribal Government; Federal Government.

Number of Respondents: 6,009.

Frequency of Responses: Reporting: Other: One time.

Total Burden Hours: 1,620.

Ruth Brown,
Departmental Information Collection Clearance Officer.

[FR Doc. 2017-08190 Filed 4-21-17; 8:45 am]

BILLING CODE 3410-18-P